DEPARTMENT OF ENERGY

DOE Response to Recommendation 2000-1 of the Defense Nuclear Facilities Safety Board, Stabilization and Storage of Nuclear Material

AGENCY: Department of Energy.

ACTION: Notice.

SUMMARY: The Defense Nuclear Facilities Safety Board published Recommendation 2000-1, concerning the stabilization and storage of nuclear material, on January 26, 2000 (65 FR 4237). Under section 315(b) of the Atomic Energy Act of 1954, as amended, 42 U.S.C. 2286d(b), the Department of Energy was required to transmit a response to the Defense Nuclear Facilities Safety Board by March 13, 2000. The Secretary's response follows.

DATES: Comments, data, views, or arguments concerning the Secretary's response are due on or before April 26, 2000.

ADDRESSES: Send comments, data, views, or arguments concerning the Secretary's response to: Defense Nuclear Facilities Safety Board, 625 Indiana Avenue NW, Suite 700, Washington, DC 20004.

FOR FURTHER INFORMATION CONTACT: Mr. David Huizenga, Deputy Assistant Secretary for Integration and Disposition, Environmental Management, Department of Energy, 1000 Independence Avenue SW, Washington, DC 20585.

Issued in Washington, DC, on March 21, 2000.
Mark B. Whitaker, Jr.,
Departmental Representative to the Defense Nuclear Facilities Safety Board.

The Secretary of Energy

Washington, DC 20585

March 13, 2000.

The Honorable John T. Conway,

Chairman, Defense Nuclear Facilities Safety Board, 625 Indiana Avenue, NW, Suite 700, Washington, D.C. 20004.

Dear Mr. Chairman: This letter acknowledges receipt of your Recommendation 2000-1, “Stabilization and Storage of Nuclear Materials,” issued on January 14, 2000, concerning continued efforts to stabilize and safely store the materials identified in your previous Recommendation 94-1. I share the Board's concerns that the nuclear materials remaining to be stabilized throughout the DOE complex pose significant risks, and I agree it is a priority to improve the Department's performance reducing these risks.

The Department has made progress in the last six years. Most of the very immediate concerns prompting Recommendation 94-1 have been mitigated. Stabilization activities are continuing. The Department has updated its safety analyses and implemented needed compensatory measures to ensure interim safe storage of nuclear materials. We recognize, however, that we must remain focussed until the task is complete.

We are working aggressively to complete the resource-loaded baselines for the Savannah River Site and the Los Alamos National Laboratory to finish the stabilization work begun under 94-1. By the end of April, we plan to provide you with an implementation plan for completing the remaining 94-1 activities and satisfying the risk-reduction requirements of Recommendation 2000-1. It is our intention that this combined plan will serve as the Department's 2000-1 Implementation Plan and enable the closure of Recommendation 94-1. Morever, as we proceed with implementing Recommendation 2000-1, we will continually examine options and related resource requirements that may allow schedule acceleration.

Accordingly, the Department accepts sub-recommendations 1 through 9 of Recommendation 2000-1, which deal specifically with the technical aspects of our stabilization plans. We do not accept sub-recommendations 10 and 11. While we agree that the funding requirements of our work need to be addressed, funding is not the only factor affecting the implementation of stabilization activities. Our rate of progress to date has also been affected by such factors as lack of adequate contractor baselines to guide work, technology maturity, facility and operational readiness, and unanticipated difficulties in maintaining and operating aging facilities. Currently, the accepted Implementation Plan for 94-1 is the December 1998 version, which has since been revised to reflect these factors. As such, an analysis of funding requirements for the accepted Implementation Plan would not provide a realistic or meaningful measure of how our stabilization activities could be accelerated. In addition, budgetary shortfalls have not made implementation impracticable and thus do not provide a basis for so notifying the President and the Congress.

Dr. Carolyn Huntoon, Assistant Secretary for Environmental Management, is accountable to me for effective implementation of this recommendation. Mr. David Huizenga, Deputy Assistant Secretary for Integration and Disposition in Environmental Management, is the responsible manager for the preparation of the Implementation Plan. He will work with you, other board members, and your staff to develop an acceptable Implementation Plan meeting our mutual expectations. He can be reached at (202) 586-5151.

Yours sincerely,

Bill Richardson.

[FR Doc. 00-7499 Filed 3-24-00; 8:45 am]

BILLING CODE 6450-01-P